DEPARTMENT OF ENERGY

Southeastern Power Administration

Proposed Rate Adjustment, Jim Woodruff Project

AGENCY: Southeastern Power Administration, DOE.

ACTION: Notice of proposed rates, public forum, and opportunities for public review and comment.

SUMMARY: Southeastern Power Administration (Southeastern) proposes to revise existing schedules of rates and charges applicable to the sale of power from the Jim Woodruff Project, effective October 1, 2021, through September 30, 2026. Interested persons may review the rates and supporting studies and submit written comments. Southeastern will consider all comments received in this process.

DATES: Written comments are due on or before June 29, 2021. A public information and comment forum will be held by Southeastern Power Administration, virtually, on May 11, 2021, at 3:00 p.m. EDT. Persons desiring to speak at the forum should notify Southeastern at least seven (7) days before the scheduled forum date so that a list of forum participants can be prepared. Notifications should be submitted by Email to comments@sepa.doe.gov. Others participating in the forum may speak if time permits. Following the forum, Southeastern will provide exhibits to attendees and upon request.

ADDRESSES: The Tuesday, May 11, 2021, Microsoft Teams Meeting URL information is as follows: http://bit.ly/2Os0TV7, Call in information: +1 (404) 796-9216, Phone Conference ID: 950 131 260#. Written comments should be submitted to: Administrator, Southeastern Power Administration, U.S. Department of Energy, 1166 Athens Tech Road, Elberton, GA 30635-6711; Email: Comments@sepa.doe.gov. Information regarding the rates, including studies and other supporting materials, is available for public review in the offices of Southeastern Power Administration, 1166 Athens Tech Road, Elberton, GA 30635.

FOR FURTHER INFORMATION CONTACT: Samuel W. Loggins, Assistant Administrator, Finance and Marketing, Southeastern Power Administration, U.S. Department of Energy, 1166 Athens Tech Road, Elberton, GA 30635-6711, (706) 213-3805; Email: Samuel.Loggins@sepa.doe.gov.

SUPPLEMENTARY INFORMATION: Background of Existing Rates: The existing schedules of rates and charges applicable to the sale of power from the Jim Woodruff Project are effective through September 30, 2021. On October 20, 2016, the Federal Energy Regulatory Commission (FERC) confirmed and approved, on a final basis, Rate Schedules JW-1-K, and JW-2-F applicable to the Jim Woodruff System for a period ending September 30, 2021 (157 FERC ¶ 62,043).

Repayment Study: Existing rate schedules are based upon a March 2016 repayment study and other supporting data contained in FERC Docket No. EF16-7-000. A repayment study prepared in February 2021 showed that the existing rates are not adequate to meet repayment criteria. Southeastern is therefore proposing a rate increase. A revised study shows that a revenue increase of $684,000 per year from preference customers would make the rates adequate to meet repayment criteria. The rate adjustment would represent an increase of about 9.2 percent.

The additional costs are due to U.S. Army Corps of Engineers Operation & Maintenance expense increases and Southeastern marketing expense increases.

Proposed Rates: In the proposed rate schedule JW-1-L, which is available to preference customers, the capacity charge would be increased from $7.74 per kilowatt per month to $8.46 per kilowatt per month. The energy charge would be increased from 20.44 mills per kilowatt-hour to 22.32 mills per kilowatt-hour. In addition to the capacity and energy charges, each preference customer would continue to be charged for power purchased by Southeastern on behalf of the preference customer. This pass-through would continue to be computed as described in the current rate schedules.

Rate schedule JW-2-F, available to Duke Energy Florida (DEF), would continue the current rate of 100 percent of DEF's fuel cost.

Legal Authority: By Delegation Order No. 00-037.00B, effective November 19, 2016, the Secretary of Energy delegated to Southeastern's Administrator the authority to develop power and transmission rates, to the Deputy Secretary of Energy the authority to confirm, approve, and place such rates into effect on an interim basis, and to the Federal Energy Regulatory Commission (FERC) the authority to confirm, approve, and place into effect on a final basis, or to disapprove, rates developed by the Administrator under the delegation. By Delegation Order No. S1-DEL-S4-2021, effective February 25, 2021, the Acting Secretary of Energy also delegated the authority to confirm, approve, and place such rates into effect on an interim basis to the Under Secretary for Science (and Energy). By Redelegation Order No. 00-002.10E, effective February 14, 2020, the Under Secretary of Energy (to whom such authority was delegated by the Secretary of Energy in Delegation Order No. 00-002.00S from January 15, 2020 until that delegation was rescinded on February 25, 2021) redelegated the authority to confirm, approve, and place such rates into effect on an interim basis to the Assistant Secretary for Electricity. By Redelegation Order No. 00-002.10-03, effective July 8, 2020, the Assistant Secretary for Electricity further redelegated the authority to confirm, approve, and place such rates into effect on an interim basis to the Administrator, Southeastern Power Administration. The delegations and redelegations not affirmatively rescinded remain valid. This rate is proposed by the Administrator, Southeastern Power Administration, pursuant to the authority delegated in Delegation Order No. 00-037.00B.

Environmental Impact: Southeastern has reviewed the possible environmental impacts of the rate adjustment under consideration and has concluded that, because the adjusted rates would not significantly affect the quality of the human environment within the meaning of the National Environmental Policy Act of 1969, as amended, the proposed action is not a major Federal action for which preparation of an Environmental Impact Statement is required.

Determination Under Executive Order 12866: Southeastern has an exemption from centralized regulatory review under Executive Order 12866; accordingly, no clearance of this notice by the Office of Management and Budget is required.

Signing Authority: This document of the Department of Energy was signed on March 18, 2021, by Virgil G. Hobbs III, Administrator for Southeastern Power Administration, pursuant to delegated authority from the Secretary of Energy. That document, with the original signature and date, is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on March 26, 2021.
Treena V. Garrett,
Federal Register Liaison Officer, U.S. Department of Energy.

[FR Doc. 2021-06632 Filed 3-30-21; 8:45 am]

BILLING CODE 6450-01-P